SMALL BUSINESS ADMINISTRATION

[Applicant No. 99000436]

Windamere Capital Ventures, L.P. Notice Seeking Exemption Under Section 312 of the Small Business Investment Act, Conflicts of Interest

Notice is hereby given that Windamere Capital Ventures, L.P., 12230 El Camino Real, Suite 300 San Diego California 92130, an applicant for a Federal License under the Small Business Investment Act of 1958, as amended (“the Act”), in connection with the financing of a small concern, has sought an exemption under section 312 of the Act and section 107.730, Financings which Constitute Conflicts of Interest of the Small Business Administration (“SBA”) rules and regulations (13 CFR 107.730 (2000)). Windamere Capital Ventures, L.P. proposes to provide equity financing to Santarus, Inc., 12230 El Camino Real, Suite 300B San Diego California 92130. The financing is contemplated for patent license payment for new product, pre-clinical and clinical product development.

The financing is brought within the purview of Sec. 107.730(a)(1) of the Regulations because Windamere, LLC and Windamere Venture Partners, Associates of Windamere Capital Ventures, L.P., currently own greater than 10 percent of Santarus, Inc. and therefore Santarus, Inc. is considered an Associate of Windamere Capital Ventures, L.P., as defined in § 107.50 of the regulations.

Notice is hereby given that any interested person may submit written comments on the transaction to the Associate Administrator for Investment, U.S. Small Business Administration, 409 Third Street, SW., Washington, DC 20416.

Dated: March 6,2001.
Harry E. Haskins,
Acting Associate Administrator for Investment.

[FR Doc. 01-6507 Filed 3-15-01; 8:45 am]

BILLING CODE 8025-01-P